DEPARTMENT OF HOMELAND SECURITY

Coast Guard

33 CFR Part 100

[Docket No. USCG-2024-0218]

Special Local Regulations; Blue Water Resort and Casino Spring Classic; Parker, Arizona

AGENCY: Coast Guard, Department of Homeland Security (DHS).

ACTION: Notification of enforcement of regulation.

SUMMARY: The Coast Guard will enforce the Blue Water Resort and Casino Spring Classic special local regulations on the waters of Parker, AZ from April 13, 2024, to April 14, 2024. These special local regulations are necessary to provide for the safety of the participants, crew, spectators, sponsor vessels, and general users of the waterway. During the enforcement period, persons and vessels are prohibited from anchoring, blocking, loitering, or impeding within this regulated area unless authorized by the Captain of the Port, or his designated representative.

DATES: The regulations in 33 CFR 100.1102 will be enforced from April 13, 2024, to April 14, 2024, from 6 a.m. through 6 p.m. daily for the locations described in Table 1 to § 100.1102, Item 6 of that section.

FOR FURTHER INFORMATION CONTACT: If you have questions about this publication of enforcement, call or email Lieutenant Shelley Turner, Waterways Management, U.S. Coast Guard Sector San Diego, CA; telephone (619) 278-7261, email MarineEventsSD@uscg.mil.

SUPPLEMENTARY INFORMATION: The Coast Guard will enforce the special local regulations in 33 CFR 100.1102 for the Spring Classic in Parker, AZ for the locations described in Table 1 to § 100.1102, Item 6 of that section, April 13, 2024, to April 14, 2024, from 6 a.m. until 6 p.m. daily. The location includes the waters of Parker, AZ. This enforcement action is being taken to provide for the safety of life on navigable waterways during the event. The Coast Guard's regulation for recurring marine events on the Colorado River, between Davis Dam (Bullhead City, Arizona) and Headgate Dam (Parker, Arizona) identifies the regulated entities and area for this event. Under the provisions of 33 CFR 100.1102, persons and vessels are prohibited from anchoring, blocking, loitering, or impeding within this regulated area, unless authorized by the Captain of the Port San Diego, or his designated representative. The Coast Guard may be assisted by other Federal, State, or local law enforcement agencies in enforcing this regulation.

In addition to this document in the Federal Register, the Coast Guard will provide the maritime community with advance notification of this enforcement period via the Local Notice to Mariners, marine information broadcasts, and local advertising by the event sponsor.

If the Captain of the Port Sector San Diego or his designated representative determines that the regulated area need not be enforced for the full duration stated on this document, he or she may use a Broadcast Notice to Mariners or other communications coordinated with the event sponsor to grant general permission to enter the regulated area.

James W. Spitler,
Captain, U.S. Coast Guard, Captain of the Port San Diego.

[FR Doc. 2024-07536 Filed 4-9-24; 8:45 am]

BILLING CODE 9110-04-P